DEPARTMENT OF THE INTERIOR

Bureau of Indian Affairs

[267A2100DD/AAKC001030/A0A501010.000000]

Indian Gaming; Approval by Operation of Law of the Addendum to Tribal-State Compact for Control of Class III Blackjack on the Lower Sioux Community Reservation in the State of Minnesota for Class III Card Games

AGENCY: Bureau of Indian Affairs, Interior.

ACTION: Notice.

SUMMARY: This notice announces the approval by operation of law of the Addendum to Tribal-State Compact for Control of Class III Blackjack on the Lower Sioux Community Reservation in the State of Minnesota for Class III Card Games (Amendment) governing the operation and regulation of class III gaming activities.

DATES: The amendment takes effect on December 15, 2025.

FOR FURTHER INFORMATION CONTACT: Mr. Troy Woodward, Acting Director, Office of Indian Gaming, Office of the Assistant Secretary—Indian Affairs, Washington, DC 20240, IndianGaming@bia.gov; (202) 219-4066.

SUPPLEMENTARY INFORMATION: The Indian Gaming Regulatory Act of 1988, 25 U.S.C. 2701 et seq., (IGRA) provides the Secretary of the Interior (Secretary) with 45 days to review and approve or disapprove the Tribal-State compact governing the conduct of class III gaming activity on the Tribe's Indian lands. See 25 U.S.C. 2710(d)(8). If the Secretary does not approve or disapprove a Tribal-State compact within the 45 days, IGRA provides the Tribal-State compact is considered to have been approved by the Secretary, but only to the extent the compact is consistent with IGRA. See 25 U.S.C. 2710(d)(8)(D). The IGRA also requires the Secretary to publish in the Federal Register notice of the approved Tribal-State compacts for the purpose of engaging in class III gaming activities on Indian lands. See 25 U.S.C. 2710(d)(8)(D). As required by 25 CFR 293.4, all compacts and amendments are subject to review and approval by the Secretary.

This Amendment permits the Tribe to operate class III card games on the Tribe's Indian lands. The Secretary took no action on the Amendment within the 45-day statutory review period. Therefore, the Amendment is considered to have been approved, but only to the extent it is consistent with IGRA. See 25 U.S.C. 2710(d)(8)(C).

William Henry Kirkland, III,
Assistant Secretary—Indian Affairs.

[FR Doc. 2025-22802 Filed 12-12-25; 8:45 am]

BILLING CODE 4337-15-P